DEPARTMENT OF JUSTICE

Antitrust Division

Notice Pursuant to the National Cooperative Research and Production Act of 1993—The Open Group, L.L.C.

Notice is hereby given that, on February 8, 2021, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, 848 Solutions Limited, Stafford, UNITED KINGDOM; Advantech Corporation, Irvine, CA; Aitech Defense Systems, Inc., Chatsworth, CA; Anurag Group of Institutions, Hyderabad, INDIA; B2B Learning, Brussels, BELGIUM; Baltijas Datoru Akademija, Riga, LATVIA; Beckhoff Automation, LLC, Savage, MN; BP Exploration Operating Co Ltd, Sunbury Upon Thames, UNITED KINGDOM; CAPC Group, LLC, Cincinnati, OH; Cerner Corporation, Kansas City, MO; Collaborative Systems Integration, LLC, Austin, TX; Croc Region Ltd., Moscow, RUSSIAN FEDERATION; Datagration Solutions, Inc., Houston, TX; Deeplight Technologies, Reading, UNITED KINGDOM; dGB Earth Sciences BV, Enschede, THE NETHERLANDS; DNV GL Business Assurance Norway AS, Høvik, NORWAY; Emisoft AS, Bergen, NORWAY; ERM Group, Inc., Houston, TX; Fundação Gorceix, Ouro Preto, BRAZIL; hpad Consulting, Bel Aire, KS; HRH Ltd, Aberdeen, UNITED KINGDOM; inerG, Inc., Houston, TX; Intelligent Training de Colombia, Bogota, COLOMBIA; Jodayn Consulting, Riyadh, SAUDI ARABIA; Keross LLC, Dubai, UNITED ARAB EMIRATES; Kwantis, Milano, ITALY; Leviathan Security Group, Inc., Seattle, WA; LMK Resources, Inc., Houston, TX; Moog, Inc., Elma, NY; Petroleum Experts Limited, Edinburgh, UNITED KINGDOM; Rocsole Oy, Kuopio, FINLAND; Saudi Aramco, Houston, TX; Technology Service Corporation, Arlington, VA; Thermo Fisher Scientific, Bordeaux, FRANCE; U.S. Space Force Space and Missile Systems Center, El Segundo, CA; Volantice Ltd., Tunbridge Wells, UNITED KINGDOM; Vose Software NV, Sint-Amandsberg, BELGIUM; Weatherford International, LLC, Houston, TX; Xecta Digital Labs, Houston, TX; and ZEDEDA, Inc., San Jose, CA, have been added as parties to this venture.

Also, Beniva Consulting Group, Houston, TX; CERTON Software, Inc., Cambridge, MA; Dreamtsoft, Inc., Del Mar, CA; Encana Corporation, Calgary, CANADA; Focus People s.r.o., Senov, CZECH REPUBLIC; FSOPN Science and Technology, Co., Ltd., Beijing, PEOPLE'S REPUBLIC OF CHINA; Great River Technology, Inc., Albuquerque, NM; Hawaiian Electric Company, Honolulu, HI; INNOSEC Ltd, Hod Hasharon, ISRAEL; it SolutionCrew GmbH, Nussbaumen, SWITZERLAND; Mocana Corporation, San Francisco, CA; Moody's Corporation, New York, NY; Nagoya University, Nagoya, JAPAN; OMEC Sp z.o.o., Warsaw, POLAND; Process Management and Solutions, S.A. de C.V, Mexico City, MEXICO; Radix U.S., LLC., Houston, TX; Shenzhen Comtop Information Technologies, Shenzhen, PEOPLE'S REPUBLIC OF CHINA; SunDrill Energy Services, Houston, TX; Tachyus Corporation, Berkeley, CA; The SABSA Institute, Hove, UNITED KINGDOM; Visible Systems Corporation, Boston, MA; and WellLogData, Inc., Houston, TX, have withdrawn as parties to this venture.

No other changes have been made in either the membership or planned activity of the group research project. Membership in this group research project remains open, and TOG intends to file additional written notifications disclosing all changes in membership.

On April 12, 1997, TOG filed its original notification pursuant to Section 6(a) of the Act. The Department of Justice published a notice in the Federal Register pursuant to Section 6(b) of the Act on June 13, 1997 (62 FR 32371).

The last notification was filed with the Department on November 3, 2020. A notice was published in the Federal Register pursuant to Section 6(b) of the Act on November 23, 2020 (85 FR 74761).

Suzanne Morris,
Chief, Premerger and Division Statistics, Antitrust Division.

[FR Doc. 2021-04959 Filed 3-9-21; 8:45 am]

BILLING CODE 4410-11-P